DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. As designee of the Secretary, we have granted or partially granted the requests for modification listed below. In some instances, the decisions are conditioned upon compliance with stipulations stated in the decision. The term FR Notice appears in the list of affirmative decisions below. The term refers to the Federal Register volume and page where we published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia, this 27th day of November, 2005.
Rebecca J. Smith,
Acting Director, Office of Standards, Regulations, and Variances.

Affirmative Decisions on Petitions for Modification

Docket No.: M-2005-044-C.

FR Notice: 70 FR 39800.

Petitioner: Andalex Resources, Inc.

Regulation Affected: 30 CFR 75.1100-2(e)(2)

Summary of Findings: The petitioner's proposal is to use two multi-purpose dry chemical portable fire extinguishers with at least a minimum capacity of 10 pounds of dry power at each temporary and permanent electrical installation. This is considered an acceptable alternative method for the Aberdeen Mine (MSHA I.D. No. 42-02028). The petition for modification is granted for temporary electrical installations, provided that petitioner maintains two portable fire extinguishers having at least the minimum capacity specified for a portable fire extinguisher required in 30 CFR 75.1100-1(e)at each of the temporary electrical installations at the Aberdeen Mine with conditions.

Docket No.: M-2004-046-C.

FR Notice: 70 FR 42102.

Petitioner: Genwal Resources, Inc.

Regulation Affected: 30 CFR 75.1100-2(e)(2).

Summary of Findings: The petitioner's proposal is to use two portable fire extinguishers, or one extinguisher at each temporary electrical installation with at least twice the minimum capacity for a portable fire extinguisher required in 30 CFR 75.1100-1(e). This is considered an acceptable alternative method for the Crandall Canyon Mine MSHA I.D. No. 42-01715). The petition for modification is granted for temporary electrical installations, provided that petitioner maintains two portable fire extinguishers having at least the minimum capacity specified for a portable fire extinguisher in 30 CFR 75.1100-1(e) or one portable fire extinguisher with twice the minimum capacity specified in 30 CFR 75.1100-1(e) at each of the temporary electrical installations at the Crandall Canyon Mine with conditions.

Docket No.: M-2005-047-C.

FR Notice: 70 FR 42102.

Petitioner: West Ridge Resources, Inc.

Regulation Affected: 30 CFR 75.1100-2(e)(2).

Summary of Findings: The petitioner's proposal is to use two portable fire extinguishers, or one extinguisher at each temporary electrical installation with at least twice the minimum capacity for a portable fire extinguisher required in 30 CFR 75.1100-1(e). This is considered an acceptable alternative method for the West Ridge Mine (MSHA I.D. No. 42-02233). The petition for modification is granted for temporary electrical installations, provided that petitioner maintains two portable fire extinguishers having at least the minimum capacity specified for a portable fire extinguisher in 30 CFR 75.1100-1(e) or one portable fire extinguisher with twice the minimum capacity specified in 30 CFR 75.1100-1(e) at each of the temporary electrical installations at the West Ridge Mine with conditions.

Docket No.: M-2005-048-C.

FR Notice: 70 FR 42102.

Petitioner: Genwal Resources, Inc.

Regulation Affected: 30 CFR 75.1100-2(e)(2).

Summary of Findings: The petitioner's proposal is to use two portable fire extinguishers, or one extinguisher at each temporary electrical installation with at least twice the minimum capacity for a portable fire extinguisher required in 30 CFR 75.1100-1(e). This is considered an acceptable alternative method for the South Crandall Canyon Mine (MSHA I.D. No. 42-02356). The petition for modification is granted for temporary electrical installations, provided that petitioner maintains two portable fire extinguishers having at least the minimum capacity specified for a portable fire extinguisher in 30 CFR 75.1100-1(e) or one portable fire extinguisher with twice the minimum capacity specified in 30 CFR 75.1100-1(e) at each of the temporary electrical installations at the South Crandall Canyon Mine with conditions.

Docket No.: M-2005-049-C.

FR Notice: 70 FR 42102.

Petitioner: Andalex Resources, Inc.

Regulation Affected: 30 CFR 75.1100-2(e)(2).

Summary of Findings: The petitioner's proposal is to use two portable fire extinguishers, or one extinguisher at each temporary electrical installation with at least twice the minimum capacity for a portable fire extinguisher required in 30 CFR 75.1100-1(e). This is considered an acceptable alternative method for the Pinnacle Mine (MSHA I.D. No. 42-01474). The petition for modification is granted for temporary electrical installations, provided that petitioner maintains two portable fire extinguishers having at least the minimum capacity specified for a portable fire extinguisher in 30 CFR 75.1100-1(e) or one portable fire extinguisher with twice the minimum capacity specified in 30 CFR 75.1100-1(e) at each of the temporary electrical installations at the Pinnacle Mine with conditions.

[FR Doc. E5-6832 Filed 12-2-05; 8:45 am]

BILLING CODE 4510-43-P